NATIONAL AERONAUTICS AND SPACE ADMINISTRATION

[Document Number NASA-23-021; Docket Number-NASA-2023-0001]

Request for Information on Advancing Racial Equity and Support for Underserved Communities in NASA Procurements and Federal Financial Assistance

AGENCY: National Aeronautics and Space Administration (NASA).

ACTION: Request for information (RFI).

SUMMARY: The National Aeronautics and Space Administration (NASA) is issuing this Request for Information (RFI) to receive input from the public on the barriers and challenges that prevent members of underserved communities (as defined in Executive Order 13985, Advancing Racial Equity and Support for Underserved Communities Through the Federal Government, and Executive Order 14091, Further Advancing Racial Equity and Support for Underserved Communities Through the Federal Government) from participating in NASA's procurements, grants, and cooperative agreements. With this RFI, NASA is seeking for the public to provide specific feedback on the procurement, grant, and cooperative agreement regulations, policies, practices, and processes that deter entities from pursuing opportunities for NASA procurements, grants, and cooperative agreements. NASA will review inputs received and may use this information to evaluate, implement, modify, expand, and streamline procurements, grants, cooperative agreements, regulations, policies, practices, and processes to remove systemic inequitable barriers and challenges facing members of underserved communities.

DATES: Comments are requested on or before 60 days after publication of this RFI. Comments received after this date will be considered for future advisory, communication, and outreach efforts to the extent practicable.

ADDRESSES:

• Comments must be identified with the Agency's name and Docket Number NASA-2023-0001 and may be sent to NASA via the Federal E-Rulemaking Portal: http://www.regulations.gov. Follow the online instructions for submitting comments. All public comments received are subject to the Freedom of Information Act and will be posted in their entirety at https://www.regulations.gov/, including any personal and/or business confidential information provided. Do not include any information you would not like to be made publicly available.

• Mail: Comments submitted in a manner other than the one listed above, including emails or letters sent to NASA Headquarters Office of Procurement (OP) officials may not be accepted.

• Hand Delivery: Please note that NASA cannot accept any comments that are hand-delivered or couriered. In addition, NASA cannot accept comments contained on any form of digital media storage devices, such as CDs/DVDs and USB drives. If you cannot submit your comment by using http://www.regulations.gov, please contact (Cheryl Robertson, 202-358-0667 or hq-op-deia@mail.nasa.gov) for alternate instructions.

FOR FURTHER INFORMATION CONTACT: Issues regarding submissions or questions about this RFI should be sent to Cheryl Robertson, 202-358-0667, or hq-op-deia@mail.nasa.gov.

SUPPLEMENTARY INFORMATION:

I. Background

NASA is issuing a second RFI to receive input from the public specifically on NASA's procurement, grant, and cooperative agreement regulations, policies, practices, and processes. This is a follow-up to the first RFI on this subject, RFI 21-038, which was released on June 15, 2021. The intent of this RFI is to (1) to determine whether any previous conditions have changed in this area; (2) ensure new recipients of NASA procurements, grants, and/or cooperative agreements have an opportunity to comment; and (3) obtain specific suggestions on barriers and challenges that deter underserved communities from participating in NASA competitions for procurement, grant, and cooperative agreement awards. NASA will review this information and may use it to evaluate, implement, modify, expand, and streamline its procurement, grant, and cooperative agreement regulations, policies, practices, and processes to remove any systemic inequitable barriers and challenges facing underserved communities. This effort will enable NASA to further execute the President's Executive Orders 13985 and 14091, entitled “Advancing (and Further Advancing . . .) Racial Equity and Support for Underserved Communities Through the Federal Government” (Equity E.O.s), signed by the President on January 20, 2021, and February 16, 2023, respectively. The Equity E.O.s define the following terms noted below; these terms are used throughout this RFI:

• “Equity” means the consistent and systematic treatment of all individuals in a fair, just, and impartial manner, including individuals who belong to communities that often have been denied such treatment, such as Black, Latino, Indigenous and Native American, Asian American, Native Hawaiian, and Pacific Islander persons and other persons of color; members of religious minorities; women and girls; LGBTQI+ persons; persons with disabilities; persons who live in rural areas; persons who live in United States Territories; persons otherwise adversely affected by persistent poverty or inequality; and individuals who belong to multiple such communities.

• “Underserved communities” refers to those populations as well as geographic communities that have been systematically denied the opportunity to participate fully in aspects of economic, social, and civic life, as defined in Executive Orders 13985 and 14020.

As required by the Equity EOs, NASA established a 2022 Equity Action Plan (EAP). The NASA EAP outlines and reaffirms the Agency's strategy to successfully mitigate systemic barriers to equity. Click here to see the plan: Mission Equity | NASA. As stated in the EAP, the NASA procurement, grant, cooperative agreement structures, processes, and requirements can be perplexing. NASA's Office of Procurement (OP) continues to make changes and take actions to remove barriers and challenges that hinder prospective contractors (and contractors) and prospective recipients (and recipients) of grants and cooperative agreements in underserved communities from engaging with NASA. Furthermore, OP is determined to remove any identified barriers and challenges through the efforts outlined in the NASA Equity Action Plan under Focus Area 1, Increase Integration and Utilization of Contractors and Businesses from Underserved Communities to Expand Equity in NASA's Procurement Process, and Focus Area 2, Enhance Grants and Cooperative Agreements to Advance Opportunities, Access and Representation for Underserved Communities, to include studying barriers and challenges to remove or minimize such barriers and increasing outreach efforts to reach members of underserved communities.

The public is encouraged to provide input in response to the questions below to assist in improving the Agency's procurements, grants, cooperative agreements, and associated regulations, policies, practices, and processes. Specifically, members of underserved communities are requested to share their perceived barriers and challenges, suggestions, and ideas, so that they can become a NASA contractor or grant or cooperative agreement recipient that furthers NASA's important mission.

II. Discussion of Questions

NASA OP conducts continuous reviews of procurement, grant, and cooperative agreement regulations, policies, practices, and processes. In support of E.O.s 13985 and 14091, input is solicited from the public to better understand and identify the systemic barriers and challenges facing members of underserved communities to access and participate in NASA contracts, grants, and cooperative agreements. The information and input from this RFI will assist OP in addressing any identified gaps in equity and determine how best to advance equity in the procurement and grant-making (including cooperative agreements) process to members of underserved communities. The following list of questions and topic areas are intended to guide the public in this effort:

Outreach/Engagement/Training

1. How and where can NASA reach contractors and/or grant and cooperative agreement recipients that are members of underserved communities more effectively? Provide specific sites, points of contact, and/or information to support NASA outreach to these associations, organizations, or groups.

2. NASA Office of Small Business Program (OSBP) has numerous training opportunities for small businesses. The OSBP Learning Series is provided to share additional training to assist with learning how to do business with NASA. Is your entity aware of these training opportunities? What other type of specific training information does your firm need to help it do business with NASA? Are there barriers for you to attend these training opportunities? Is in-person or virtual training more appropriate or beneficial?

3. NASA uses various platforms to conduct training that will best facilitate information-sharing and the establishment of partnerships between NASA and underserved communities. Please share the names of platforms which work best and are available to reach members of underserved communities. These can be online platforms, organizations, conferences, publications, etc.

4. Provide suggestions how NASA can better collaborate with academic research institutions, particularly Historically Black Colleges and Universities (HBCU) and other Minority Serving Institutions (MSI), to advance outreach and increase the number of contract, grant, and cooperative agreement awards in these underserved communities?

5. How can NASA ensure that there is full equity in the issuance of grant and cooperative agreement awards? Please provide specific examples of NASA grant and cooperative agreement policy, process, systems, practices that may prevent full equity from being achieved in NASA's issuance of grant and cooperative agreement awards.

6. In considering how NASA announces its Notices of Funding Opportunities (NOFOs) for grant and cooperative agreement awards to be made (Via Grants.gov, NASA Solicitation and Proposal Integrated Review and Evaluation System [NSPIRES], the Minority Serving Institutions [MSI] exchange newsletter, etc.), where and how can NASA announce NOFOs to ensure full equity in opportunity? Please provide examples of specific websites and communication avenues.

Barrier Analysis

1. Are there any specific NASA or Federal Government regulations, policies, practices and or processes that have prevented you from submitting proposals or being awarded a contract, grant, or cooperative agreement with NASA? Please provide specific examples.

2. If you have received a NASA contract, grant, or cooperative agreement in the past, what barriers does/did your organization experience in working with NASA to implement the grant, cooperative agreement, or contract? Please provide examples of specific regulations, processes, procedures, policies, or systems that could be improved to ensure full equity in opportunity.

3. What resources could NASA provide to better assist underserved communities in identifying new opportunities to be awarded a contract, grant, or cooperative agreement with NASA, or access the Agency's programs or data?

4. What resources could NASA provide to better assist underserved communities in properly managing and executing NASA grant or cooperative agreement projects?

5. What challenges do you face when developing and implementing procedures to advance diversity and inclusion for underserved communities within your research/business?

6. Have you encountered barriers within NASA's procurement process, to include source selection evaluation process, that prevent underserved communities from receiving awards of NASA contracts? Please provide specific examples.

Diversity, Equity, Inclusion and Accessibility (DEIA)

1. NASA has amended its Federal Acquisition Regulation Supplement (NASA FAR Supplement—NFS) to include a requirement for the contractor to submit DEIA plans under certain NASA contracts.

What other DEIA suggestions (e.g., requirements, training, etc.) should we investigate to ensure our contractors are diligently working to include members of underserved communities in their contract awards?

2. In response to Executive Order 13985, Advancing Racial Equity and Support for Underserved Communities Through the Federal Government, NASA has included a term and condition in its grant and cooperative agreement awards for recipients to obtain at least one quotation from a small and/or minority businesses, women's business enterprises, or labor surplus area firm when acquiring goods or services that exceed the simplified acquisition threshold (currently $250,000). What other DEIA suggestions (e.g., terms and conditions, requirements, training, etc.) should NASA OP investigate to ensure its grants and cooperative agreements include members of underserved communities?

III. Written Comments

Written responses should not exceed 10 pages, inclusive of a 1-page cover page as described below. Attachments or linked resources or documents are not included in the 10-page limit. Please respond concisely, in plain language, and in narrative format. You may respond to some or all questions listed in the RFI. Please ensure your response is clear and indicate which question you are responding to. You may also include links to online material or interactive presentations, and ensure all links are publicly available. Each response should include: (1) the name of the individual(s) and/or organization responding; (2) policy suggestions that your submission and materials support; (3) a brief description of the responding individual(s) or organization's mission and/or areas of expertise; and (4) a contact for questions or other follow-up on your response. Please note that this RFI is only a planning document, and should not be construed as policy, a solicitation for proposals, or an obligation on the part of NASA or the Federal Government. Interested parties responding to this RFI may be contacted for a follow-on strategic agency assessment dialogue, discussion, event, crowdsource campaign, or competition.

IV. Review of Public Feedback

NASA may use the feedback received to help initiate strategic plans, consider reforms, and execute reports as required by the Equity E.O.s. NASA may use the public's feedback to consider reduction of administrative burdens more broadly. Again, this RFI is issued solely for information and procurement-planning purposes. Public input provided in response to this notice does not bind NASA to take any further actions, to include publishing a formal response or agreement to initiate a recommended change. NASA will consider the feedback received and may make changes or process improvements at its sole discretion.

NASA will continue to dialogue with industry and stakeholders to stay connected and engaged on barriers and challenges that impact members of underserved communities through periodic issuance of RFIs, and participation in industry and association meetings, conferences, and other forums.

Julia B. Wise,
Director, Procurement Management and Policy Division, NASA—Headquarters, Office of Procurement.

[FR Doc. 2023-07489 Filed 4-10-23; 8:45 am]

BILLING CODE 7510-13-P